DEPARTMENT OF ENERGY

Federal Energy Regulatory Commission

[Project No. 3494-058, Pennsylvania]

Allegheny No. 6 Hydro Partners; Notice of Availability of Final Environmental Assessment

February 14, 2002.

In accordance with the National Environmental Policy Act of 1969 and the Federal Energy Regulatory Commission's (Commission) regulations, 18 CFR part 380 (Order No. 486, 52 FR 47897), the Office of Energy Projects has reviewed an application to install 12-inch-high flashboards at the Allegheny Lock and Dam No. 6 Hydroelectric Project and has prepared a Final Environmental Assessment (FEA). The hydroelectric project is located at a U.S. Army Corps of Engineers dam (Lock and Dam No. 6) on the Allegheny River, near the town of Ford City, in Armstrong County, Pennsylvania. No other federal or tribal lands are occupied by the hydroelectric project.

The Commission has begun a proceeding to determine if reserved authority in article 17 of the license should be used to require 12-inch-high flashboards at Lock and Dam No. 6. Flashboards can be used to increase water levels in Pool No. 6 to more closely resemble pre-hydroelectric conditions. The proceeding is in response to concerns raised by the Pennsylvania Fish and Boat Commission about the impacts of project-induced lower water levels on recreational boating in Pool No. 6. The FEA contains Commission staff's analysis of the potential environmental impacts of installing 12-inch-high flashboards and concludes that flashboards should not be installed at Lock and Dam No. 6 because of adverse impacts to wetlands.

A copy of the FEA is on file with the Commission and is available for public inspection. The FEA may also be viewed on the Web at http://www.ferc.gov using the “RIMS” link—select “P-3494” and follow the instructions (call 202-208-2222 for assistance).

Linwood A. Watson, Jr.,
Deputy Secretary.

[FR Doc. 02-4251 Filed 2-21-02; 8:45 am]

BILLING CODE 6717-01-P